DEPARTMENT OF THE INTERIOR

Bureau of Land Management

[LLNV952000 L14200000.BJ0000 241A; 13-08807; MO# 4500064561; TAS: 14X1109]

Filing of Plats of Survey; NV

AGENCY: Bureau of Land Management, Interior.

ACTION: Notice.

SUMMARY: The purpose of this notice is to inform the public and interested State and local government officials of the filing of Plats of Survey in Nevada.

DATES: Effective Dates: Unless otherwise stated filing is effective at 10:00 a.m. on the dates indicated below.

FOR FURTHER INFORMATION CONTACT: David D. Morlan, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands was officially filed at the Bureau of Land Management (BLM) Nevada State Office, Reno, Nevada on February 13, 2014:

The plat, in 1 sheet, representing the dependent resurvey of the Nevada-Oregon State Line, between Mile Post No. 177+69 chs. and Mile Post No. 179, a portion of the east boundary and a portion of the subdivision-of-section lines of section 1, and the corrective dependent resurvey of a portion of the subdivision-of-section lines of section 1, Township 47 North, Range 39 East, Mount Diablo Meridian, under Group No. 908, was accepted February 11, 2014. This survey was executed at the request of the U.S. Forest Service.

2. The Supplemental Plat of the following described lands was officially filed at the BLM Nevada State Office, Reno, Nevada on March 4, 2014:

The supplemental plat, in 1 sheet, showing the subdivision of former lots 7 and 16, section 19, Township 19 South, Range 62 East, of the Mount Diablo Meridian, Nevada, under Group No. 933, was accepted March 4, 2014. This supplemental plat was prepared to accommodate the transfer of lands to the Secretary of Veterans Affairs under the provisions of Public Law 108-447 as amended by Public Law 110-161.

The survey and supplemental plat listed above are now the basic record for describing the lands for all authorized purposes. These records have been placed in the open files in the BLM Nevada State Office and are available to the public as a matter of information. Copies of the surveys and related field notes may be furnished to the public upon payment of the appropriate fees.

Dated: May 2, 2014.
David D. Morlan,
Chief Cadastral Surveyor, Nevada.

[FR Doc. 2014-10561 Filed 5-7-14; 8:45 am]

BILLING CODE 4310-HC-P